DEPARTMENT OF COMMERCE

National Oceanic and Atmospheric Administration

[RTID 0648-XC763]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Hawaii Archipelago Fishery Ecosystem Plan (FEP) Advisory Panel (AP), the Fishing Industry Advisory Committee (FIAC), and the American Samoa Fishery Archipelago FEP AP to discuss and make recommendations on fishery management issues in the Western Pacific Region.

DATES: The meetings will be held between February 24 and February 28, 2023. For specific times and agendas, see SUPPLEMENTARY INFORMATION.

ADDRESSES: The American Samoa Archipelago Fishery Ecosystem Plan (FEP) Advisory Panel (AP) meeting will be held by web conference via Webex. The Hawaii Archipelago FEP AP and Fishing Industry Advisory Committee (FIAC) meetings will be held in a hybrid format with in-person and remote participation (Webex) options available for the members, and public attendance limited to web conference via Webex. In-person attendance for Hawaii Archipelago FEP AP and FIAC members will be hosted at the Council office, 1164 Bishop Street, Suite 1400, Honolulu, HI, 96813. Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The Hawaii Archipelago FEP AP will meet on Friday, February 24, from 9 a.m. to 4 p.m., the FIAC will meet on Monday, February 27, from 2 p.m. to 5 p.m., and the American Samoa Archipelago FEP AP will meet on Tuesday, February 28, 2022, from 5 p.m. to 8 p.m. All times listed are local island times except for the FIAC which is in Hawaii Standard Time.

Public Comment periods will be provided in the agendas. The order in which agenda items are addressed may change. The meetings will run as late as necessary to complete scheduled business.

Schedule and Agenda for the Hawaii Archipelago AP Meeting

Friday, February 24, 2022, 9 a.m.-4 p.m. (Hawaii Standard Time)

1. Welcome and Introductions

2. Report of the 2019-22 Hawaii Advisory Panel (AP) Plan

3. Feedback from the Fleet

A. First Quarter Hawaii Fishermen Observations

B. Hawaii AP Fisheries Issues and Priorities

4. Council Fishery Issues and Activities

A. Options for Establishing Main Hawaiian Island (MHI) Kona Crab Status Determination Criteria

B. Options for Gold Coral Management

C. Options for a Multi-Year Bigeye Tuna Catch and Allocation Limits

5. Hawaii Fishery Issues and Activities

A. Status of the Deep-Set Longline Draft Biological Opinion

B. Review of Potential Measures for the False Killer Whale Take Reduction Plan Modification

C. Update on Plans for MHI Small-boat Fishery Engagement

D. Pacific Remote Island Area Marine Conservation Plan Review

E. Council Pelagic Fisheries Research Priorities

6. Introduction to the 2023 Hawaii Longline Cost Earning Survey

7. Setting the Direction for the Hawaii AP

8. Public Comment

9. Discussion and Recommendations

10. Other Business

Schedule and Agenda for the Fishing Industry Advisory Committee Meeting

Monday, February 27, 2022, 2 p.m.-5 p.m. (Hawaii Standard Time)

1. Welcome and Introductions

2. Status Report on Previous FIAC Recommendations

3. Roundtable update on Fishing/Market Issues/Impacts

4. Developing Options for Multi-Year Territorial Bigeye Tuna Catch and Allocation Limits

5. Workshops on Western and Central Pacific Fisheries Commission (WCPFC) Tropical Tuna Longline Management

6. International Billfish Biological Sampling Program in Longline Fisheries

7. 2023 Hawaii Longline Cost Earnings Survey

8. Update on the Main Hawaiian Islands Small-Boat Fishery Plans

9. Report out on the Hawaii Shortline/Seamount Fisheries

10. Exploratory Longline Fishing in the CNMI

11. False Killer Whale Take Reduction Team

12. Status of Deepset & American Samoa Longline Biological Opinions

13. Other Issues

14. Public Comment

15. Discussion and Recommendations

Schedule and Agenda for the American Samoa Archipelago AP Meeting

Tuesday, February 28, 2022, 5 p.m.-8 p.m. (American Samoa Standard Time)

1. Welcome and Introductions

2. Report of the 2019-22 American Samoa (AS) Advisory Panel (AP) Plan

3. Feedback from the Fleet

4. First Quarter AS Fishermen Observations

5. Advisory Panel Fishery Issues and Priorities

6. AS Fishery Issues and Activities

7. Options for a Multi-Year Bigeye Tuna Catch and Allocation Limits

8. Status on the Draft American Samoa Longline Biological Opinion

9. Bottomfish Management Unit Species Revision Update

10. Bottomfish Western Pacific Stock Assessment Review Outcomes

11. Council Pelagic Fisheries Research Priorities

12. Setting the Direction for the American Samoa Advisory Panel

13. Public Comment

14. Discussion and Recommendations

15. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 7, 2023.
Rey Israel Marquez,
Acting Deputy Director, Office of Sustainable Fisheries, National Marine Fisheries Service.

[FR Doc. 2023-02925 Filed 2-9-23; 8:45 am]

BILLING CODE 3510-22-P